DEPARTMENT OF THE INTERIOR

Fish and Wildlife Service

Notice of Receipt of Application for Approval

The following applicant has applied for approval to conduct certain activities with birds that are protected under the Wild Bird Conservation Act of 1992. This notice is provided under section 112, paragraph 4, of the Wild Bird Conservation Act of 1992, and title 50, of the Code of Federal Regulations, section 15.26(c).

Applicant: G.A. Abbate, Elizabeth, NJ. The applicant wishes to establish a cooperative breeding program for the Venezuelan Black hooded Red siskin (Carduelis cucullata). The applicant wishes to be an active participant in this program with one other private individual. COM USA Inc. and its affiliate, The International Association for the Propagation and Conservation of All Avian Species (IAPCAAS) have assumed the responsibility for the oversight of the program.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of these documents to the following office within 30 days of the date of publication of this notice: U.S. Fish and Wildlife Service, Office of Management Authority, 4401 North Fairfax Drive, Room 700, Arlington, Virginia 22203. Phone: (703/358-2095); FAX: (703/358-2298).

Dated: April 24, 2000.
Mark Phillips,
Acting Chief, Branch of Operations, Office of Management Authority.

[FR Doc. 00-10490 Filed 4-26-00; 8:45 am]

BILLING CODE 4310-55-U